ENVIRONMENTAL PROTECTION AGENCY

[EPA-HQ-OECA-2013-0346; FRL—9902-48-OEI]

Information Collection Request Submitted to OMB for Review and Approval; Comment Request; NESHAP for Area Sources: Acrylic and Modacrylic Fibers Production, Carbon Black Production, Chemical Manufacturing: Chromium Compounds, Flexible Polyurethane Foam Production and Fabrication, Lead Acid Battery Manufacturing, and Wood Preserving (Renewal)

AGENCY: Environmental Protection Agency (EPA).

ACTION: Notice.

SUMMARY: The Environmental Protection Agency has submitted an information collection request (ICR), “NESHAP for Area Sources: Acrylic and Modacrylic Fibers Production, Carbon Black Production, Chemical Manufacturing: Chromium Compounds, Flexible Polyurethane Foam Production and Fabrication, Lead Acid Battery Manufacturing, and Wood Preserving (40 CFR Part 63, Subparts LLLLLL, MMMMMM, NNNNNN, OOOOOO, PPPPPP, and QQQQQQ) (Renewal)” (EPA ICR No. 2256.04, OMB Control No. 2060-0598), to the Office of Management and Budget (OMB) for review and approval in accordance with the Paperwork Reduction Act (44 U.S.C. 3501 et seq). This is a proposed extension of the ICR, which is currently approved through December 31, 2013. Public comments were previously requested via the Federal Register (78 FR 33409) on June 4, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 13, 2013.

ADDRESSES: Submit your comments, referencing Docket ID Number EPA-HQ-OECA-2013-0346, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: EPA established national emission standards for hazardous air pollutants (NESHAP) for seven area source categories. The requirements for two area source categories (Flexible Polyurethane Foam Production and Flexible Polyurethane Foam Fabrication) are combined in one subpart. The standards include emissions limitations and work practice requirements for new and existing plants based on the generally available control technology or management practices (GACT) for each area source category. Potential respondents include 1 existing acrylic and modacrylic production facility, 2 existing chromium product manufacturing facilities, 500 existing flexible polyurethane foam production and fabrication facilities, 60 existing lead acid battery manufacturing facilities, and 393 existing wood preserving facilities. The total annual responses attributable to this ICR for existing sources are two one-time notifications; some existing facilities may be required to prepare a startup, shutdown, and malfunction plan, perform additional monitoring and recordkeeping, and/or conduct an initial performance test. The owner or operator of a new area source would be required to comply with all requirements of the General Provisions (40 CFR part 63, subpart A). No burden estimates are provided for new area sources because no new facilities are expected during the next 3 years.

Form Numbers: None.

Respondents/affected entities: Acrylic and modacrylic fibers production, carbon black production, chemical manufacturing: Chromium compounds, flexible polyurethane foam production and fabrication, lead acid battery manufacturing, and wood preserving facilities

Respondent's obligation to respond: Mandatory (40 CFR part 63, subparts LLLLLL, MMMMMM, NNNNNN, OOOOOO, PPPPPP, and QQQQQQ)

Estimated number of respondents: 956 (total).

Frequency of response: Initially, semiannually, and occasionally.

Total estimated burden: 3,217 hours (per year). “Burden” is defined at 5 CFR 1320.3(b).

Total estimated cost: $314,627 (per year), which includes no annualized capital or operation & maintenance costs.

Changes in the Estimates: There is an overall decrease in the respondent and Agency burden in this ICR compared to the most-recently approved ICR. The decrease in burden and cost estimates occurred because the standard has been in effect for more than three years and the requirements are different during initial compliance as compared to on-going compliance. The previous ICR reflected those burdens and costs associated with initial activities such as submitting initial notifications, conducting performance tests, and establishing SSM plans. This ICR reflects the on-going burden and costs for existing facilities, including submitting semiannual reports. Note the standard does not impose regular reporting requirements for all subject area source sectors.

John Moses,
Director, Collection Strategies Division.

[FR Doc. 2013-27055 Filed 11-12-13; 8:45 am]

BILLING CODE 6560-50-P